FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 27, 2013.

A. Federal Reserve Bank of St. Louis (Yvonne Sparks, Community Development Officer) P.O. Box 442, St. Louis, Missouri 63166-2034:

1. James Terill Wilson, individually, and in concert as a member of a family control group consisting of James T. Wilson, Jr., Sarah Wilson, James Terill Wilson IRA, James T. Wilson, Jr. Trust, Sarah Wilson Trust, James T. Wilson, Jr. Investment Trust, Sarah Wilson Investment Trust, all of Bronston, Kentucky, and Terry S. Wilson, Russell Springs, Kentucky; to acquire voting shares of First Bancorp, Inc., Russell Springs, Kentucky, and thereby indirectly acquire voting shares of Citizens Bank & Trust Company, Campbellsville, Kentucky, and The First National Bank of Russell Springs, Russell Springs, Kentucky.

Board of Governors of the Federal Reserve System, November 7, 2013.
Michael J. Lewandowski,
Associate Secretary of the Board.

[FR Doc. 2013-27104 Filed 11-12-13; 8:45 am]

BILLING CODE 6210-01-P